DEPARTMENT OF TRANSPORTATION

Federal Aviation Administration

14 CFR Part 39

[Docket No. FAA-2015-0084; Directorate Identifier 2014-NM-181-AD; Amendment 39-18879; AD 2017-10-05]

RIN 2120-AA64

Airworthiness Directives; Airbus Airplanes

AGENCY: Federal Aviation Administration (FAA), Department of Transportation (DOT).

ACTION: Final rule.

SUMMARY: We are adopting a new airworthiness directive (AD) for certain Airbus Model A300 series airplanes; and Model A300 B4-600, B4-600R, and F4-600R series airplanes, and Model A300 C4-605R Variant F airplanes (collectively called Model A300-600 series airplanes). This AD was prompted by reports indicating that on airplanes that received a certain repair following crack findings, cracks can re-initiate. This AD requires repetitive inspections of the center wing frame (FR) 40 lower outboard radius for cracking, and related investigative and corrective actions if necessary. We are issuing this AD to address the unsafe condition on these products.

DATES: This AD is effective June 29, 2017.

The Director of the Federal Register approved the incorporation by reference of certain publications listed in this AD as of June 29, 2017.

ADDRESSES: For service information identified in this final rule, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221. It is also available on the Internet at http://www.regulations.gov by searching for and locating Docket No. FAA-2015-0084.

Examining the AD Docket

You may examine the AD docket on the Internet at http://www.regulations.gov by searching for and locating Docket No. FAA-2015-0084; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Dan Rodina, Aerospace Engineer, International Branch, ANM-116, Transport Airplane Directorate, FAA, 1601 Lind Avenue SW., Renton, WA 98057-3356; telephone 425-227-2125; fax 425-227-1149.

SUPPLEMENTARY INFORMATION:

Discussion

We issued a supplemental notice of proposed rulemaking (SNPRM) to amend 14 CFR part 39 by adding an AD that would apply to certain Airbus Model A300 series airplanes; and Model A300 B4-600, B4-600R, and F4-600R series airplanes, and Model A300 C4-605R Variant F airplanes (collectively called Model A300-600 series airplanes). The SNPRM published in the Federal Register on November 10, 2016 (81 FR 78944) (“the SNPRM”). We preceded the SNPRM with a notice of proposed rulemaking (NPRM) that published in the Federal Register on February 13, 2015 (80 FR 7992) (“the NPRM”). The NPRM proposed to require repetitive inspections for cracking of the FR 40 forward fittings for airplanes previously repaired. The NPRM was prompted by reports indicating that, on airplanes that received a certain repair following crack findings, cracks can re-initiate. The SNPRM proposed to require repetitive rototest, ultrasonic, high frequency eddy current, special detailed, and liquid penetrant inspections, as applicable, of the center wing FR 40 lower outboard radius for cracking, and related investigative and corrective actions if necessary. The SNPRM also proposed to add airplanes to the applicability. We are issuing this AD to detect and correct cracking on the FR 40 forward fittings, which could result in reduced structural integrity of the airplane.

The European Aviation Safety Agency (EASA), which is the Technical Agent for the Member States of the European Union, has issued EASA Airworthiness Directive 2015-0232R1, dated December 16, 2015 (referred to after this as the Mandatory Continuing Airworthiness Information, or “the MCAI”), to correct an unsafe condition for certain Airbus Model A300 series airplanes; and Model A300 B4-600, B4-600R, and F4-600R series airplanes, and Model A300 C4-605R Variant F airplanes (collectively called Model A300-600 series airplanes). The MCAI states:

Cracks were found on the lower outboard radius of the centre wing frame 40 forward fitting on in-service aeroplanes.

This condition, if not detected and corrected, could lead to reduced structural integrity of the aeroplane.

To address this unsafe condition, Airbus issued several inspection Service Bulletins (SB) and repair instructions. Consequently, EASA issued AD 2009-0094, which was later superseded by EASA AD 2011-0163 [which corresponds to FAA AD 2012-25-06, Amendment 39-17287 (77 FR 75833, December 26, 2012) (“AD 2012-25-06”)] and [EASA] AD 2014-0199 [which corresponds to the FAA NPRM], to require repetitive inspections and corrective actions on the affected areas.

Since those [EASA] ADs were issued, additional in-service findings induced Airbus to do a new fatigue analysis, using a detailed Finite Element Model study, which resulted in defining new inspection methods. Prompted by these results, Airbus issued SB A300-57-0261, SB A300-57-6117 and SB A300-57-9034 to introduce these inspections. These new inspection SBs supersede and render obsolete inspection SB A300-53-0268 and SB A300-57-6052 and the All Operators Transmissions (AOT) A300-53A0391, AOT A300-57A6111, AOT A300-53W002-14 and AOT A300-57W003-14.

For the reasons described above, EASA issued AD 2015-0232, superseding [Direction Générale de l'Aviation Civile] DGAC France AD 1998-038-010(B) R1 [which corresponds to FAA AD 98-25-07, Amendment 39-10933 (63 FR 68167, December 10, 1998) (“AD 98-25-07”)] and [DGAC France] AD 2003-189(B), and EASA AD 2011-0163 and [EASA] AD 2014-0199, to require the new inspections of the affected areas within new thresholds and intervals.

This [EASA] AD is revised to clarify the compliance time(s), introducing a Note after paragraph (1), and to alleviate the reporting requirements of paragraph (3).

Required actions include repetitive rototest, ultrasonic, high frequency eddy current, special detailed, and liquid penetrant inspections, as applicable, of the center wing FR 40 lower outboard radius for cracking, and related investigative and corrective actions if necessary.

You may examine the MCAI in the AD docket on the Internet at http://www.regulations.gov by searching for and locating Docket No. FAA-2015-0084.

Comments

We gave the public the opportunity to participate in developing this AD. We received no comments on the SNPRM or on the determination of the cost to the public.

Conclusion

We reviewed the relevant data and determined that air safety and the public interest require adopting this AD as proposed except for minor editorial changes. We have determined that these minor changes:

• Are consistent with the intent that was proposed in the SNPRM for correcting the unsafe condition; and

• Do not add any additional burden upon the public than was already proposed in the SNPRM.

Related Service Information Under 1 CFR Part 51

We reviewed the following service information:

• Airbus Service Bulletin A300-57-6117, dated May 28, 2015.

• Airbus Service Bulletin A300-57-0261, dated June 11, 2015.

The service information describes procedures for repetitive ultrasonic, rototest, high frequency eddy current, special detailed, and liquid penetrant inspections, and related investigative and corrective actions. These documents are distinct since they apply to different airplane models. This service information is reasonably available because the interested parties have access to it through their normal course of business or by the means identified in the ADDRESSES section.

Costs of Compliance

We estimate that this AD affects 29 airplanes of U.S. registry.

We estimate the following costs to comply with this AD.

Estimated Costs
Action | Labor cost | Cost per product | Cost on U.S. operators
Inspections | Up to 91 work-hours × $85 per hour = $7,735 per inspection cycle | Up to $7,735 per inspection cycle | Up to $224,315 per inspection cycle.
Reporting | 1 work-hour × $85 per hour = $85 | $85 | $2,465.

We have received no definitive data that would enable us to provide cost estimates for the on-condition actions specified in this AD.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-10-05 Airbus: Amendment 39-18879; Docket No. FAA-2015-0084; Directorate Identifier 2014-NM-181-AD.

(a) Effective Date

This AD is effective June 29, 2017.

(b) Affected ADs

This AD affects AD 98-25-07, Amendment 39-10933 (63 FR 68167, December 10, 1998) (“AD 98-25-07”); and AD 2012-25-06, Amendment 39-17287 (77 FR 75833, December 26, 2012) (“AD 2012-25-06”).

(c) Applicability

This AD applies to the Airbus airplanes, certificated in any category, identified in paragraphs (c)(1) through (c)(5) of this AD, except airplanes on which Airbus Modification 10221 has been embodied in production.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 57, Wings.

(e) Reason

This AD was prompted by reports of cracks on the lower outboard radius of the center wing frame (FR) 40 forward fitting. We are issuing this AD to detect and correct cracking on the FR 40 forward fittings, which could result in reduced structural integrity of the airplane.

(f) Compliance

Comply with this AD within the compliance times specified, unless already done.

(g) Repetitive Inspections

Except as provided by paragraph (i)(1) of this AD, at the applicable times specified in paragraph 1.E.(2), “Compliance,” of Airbus Service Bulletin A300-57-0261, dated June 11, 2015; or Airbus Service Bulletin A300-57-6117, dated May 28, 2015; accomplish rototest, ultrasonic, high frequency eddy current, special detailed, and liquid penetrant inspections, as applicable, of the center wing FR 40 lower outboard radius for cracking, and do all applicable related investigative actions, in accordance with the Accomplishment Instructions of Airbus Service Bulletin A300-57-0261, dated June 11, 2015; or Airbus Service Bulletin A300-57-6117, dated May 28, 2015; as applicable. Do all applicable related investigative actions before further flight. Repeat the inspections thereafter at the applicable times specified in paragraph 1.E. (2), “Compliance,” of Airbus Service Bulletin A300-57-0261, dated June 11, 2015; or Airbus Service Bulletin A300-57-6117, dated May 28, 2015.

(h) Corrective Actions

If, during any inspection required by paragraph (g) of this AD, any crack is found, before further flight, accomplish the applicable corrective actions, in accordance with the Accomplishment Instructions of Airbus Service Bulletin A300-57-0261, dated June 11, 2015; or Airbus Service Bulletin A300-57-6117, dated May 28, 2015; as applicable; except as required by paragraph (i)(2) of this AD.

(i) Service Information Exception

(1) Where the service information specified in paragraph (g) of this AD specifies a compliance time “from this service bulletin issuance date,” this AD requires compliance within the specified compliance time after the effective date of this AD.

(2) Where the service information specified in paragraph (h) of this AD specifies to contact Airbus for certain conditions, before further flight, repair using a method approved by the Manager, International Branch, ANM-116, Transport Airplane Directorate, FAA; or the European Aviation Safety Agency (EASA); or Airbus's EASA Design Organization Approval (DOA).

(j) No Terminating Action for This AD

Accomplishing a corrective action required by paragraph (h) of this AD, or accomplishing a preventative action specified in Airbus Service Bulletin A300-57-0260 or A300-57-6116, as applicable, does not terminate the repetitive inspections required by paragraph (g) of this AD.

(k) Terminating Action for Certain Requirements of Other ADs

(1) Accomplishing the actions required by paragraph (g) of this AD terminates the actions required by paragraphs (a) and (b) of AD 98-25-07.

(2) Accomplishing the actions required by paragraph (g) of this AD terminates the actions required by paragraphs (i) and (j) of AD 2012-25-06.

(l) Reporting Requirements

Within 60 days after any inspection required by paragraph (g) of this AD, or within 60 days after the effective date of this AD, whichever occurs later, report any findings, positive or negative, to Airbus Service Bulletin Reporting Online Application on Airbus World (https://w3.airbus.com/).

(m) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone 425-227-2125; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Airbus's EASA DOA. If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(n) Related Information

(1) Refer to Mandatory Continuing Airworthiness Information (MCAI) EASA Airworthiness Directive 2015-0232R1, dated December 16, 2015, for related information. This MCAI may be found in the AD docket on the Internet at http://www.regulations.gov by searching for and locating Docket No. FAA-2015-0084.

(2) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A300-57-0261, dated June 11, 2015.

(ii) Airbus Service Bulletin A300-57-6117, dated May 28, 2015.

(3) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 2, 2017.
Michael Kaszycki,
Acting Manager, Transport Airplane Directorate, Aircraft Certification Service.

[FR Doc. 2017-10285 Filed 5-24-17; 8:45 am]

BILLING CODE 4910-13-P